DEPARTMENT OF VETERANS AFFAIRS

[OMB Control No. 2900-0567 (The Presidential Memorial Certificate)]

Special Notice; Correction

AGENCY: National Cemetery Administration, Department of Veterans Affairs.

ACTION: Notice; correction.

SUMMARY: The Department of Veterans Affairs (VA) published a collection of information notice in a Federal Register on November 18, 2013, that listed the incorrect title of the VA Form in the 60 day Federal Register Notice information. This document corrects the errors by adding the Federal Register notice information.

FOR FURTHER INFORMATION CONTACT: Crystal Rennie, Enterprise Records Service (005R1B), Department of Veterans Affairs, 810 Vermont Avenue NW., Washington, DC 20420, at (202) 632-7492.

Correction

In FR Doc. 2900-0567, published on November 18, 2013, at 7, make the following corrections.

On page 69175, in the title, please correct to read: Proposed Information Collection Activity: (The Presidential Memorial Certificate) Proposed Collection; Comment Request

On page 69176, under Title paragraph, please correct to read: Presidential Memorial Certificate.

On page 69176, under Abstract paragraph, please correct to read: VA Form 40-0247 is used by respondents to order new certificates honoring the memory and service of honorably discharged deceased Veterans. A respondent is an eligible recipient that includes the next-of-kin, other relatives or friends.

Dated: December 11, 2013.
By direction of the Secretary.
Crystal Rennie,
VA Clearance Officer, U.S. Department of Veterans Affairs.

[FR Doc. 2013-29804 Filed 12-13-13; 8:45 am]

BILLING CODE 8320-01-P